DEPARTMENT OF COMMERCE

National Oceanic and Atmospheric Administration

RIN 0648-XA915

Marine Mammals; File No. 16621

AGENCY: National Marine Fisheries Service (NMFS), National Oceanic and Atmospheric Administration (NOAA), Commerce.

ACTION: Notice; receipt of application.

SUMMARY: Notice is hereby given that Alejandro Acevedo-Gutiérrez, Ph.D., Biology Department, Western Washington University, Bellingham, WA has applied in due form for a permit to conduct research on harbor seals (Phoca vitulina).

DATES: Written, telefaxed, or email comments must be received on or before February 3, 2012.

ADDRESSES: The application and related documents are available for review by selecting “Records Open for Public Comment” from the Features box on the Applications and Permits for Protected Species (APPS) home page, https://apps.nmfs.noaa.gov, and then selecting File No. 16621 from the list of available applications.

These documents are also available upon written request or by appointment in the following offices:

Permits and Conservation Division, Office of Protected Resources, NMFS, 1315 East-West Highway, Room 13705, Silver Spring, MD 20910; phone (301) 427-8401; fax (301) 713-0376; and

Northwest Region, NMFS, 7600 Sand Point Way NE., BIN C15700, Bldg. 1, Seattle, WA 98115-0700; phone (206) 526-6150; fax (206) 526-6426.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Tammy Adams or Joselyd Garcia-Reyes, (301) 427-8401.

SUPPLEMENTARY INFORMATION: The subject permit is requested under the authority of the Marine Mammal Protection Act of 1972, as amended (MMPA; 16 U.S.C. 1361 et seq.), and the regulations governing the taking and importing of marine mammals (50 CFR part 216).

The applicant requests a five-year permit to address the interactions between humans and harbor seals in the Salish Sea, USA. They propose to estimate harbor seal response to (1) different kayak speeds in four haul-out sites to recommend management policies and (2) calls from bald eagles at two haul-out sites with different levels of boat traffic to estimate the effect of human activity on the response of seals to natural predators. The applicant requests harassment of 13,600 harbor seals annually from ground surveys, and 50,000 annually from vessel surveys and playback experiments. The geographic locations of the proposed study are the Washington State inland waters of the Salish Sea: two haul-out sites in Puget Sound and four haul-out sites in the vicinity of Sucia Island, in the San Juan Islands.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: December 28, 2011.
P. Michael Payne,
Chief, Permits and Conservation Division, Office of Protected Resources, National Marine Fisheries Service.

[FR Doc. 2011-33765 Filed 1-3-12; 8:45 am]

BILLING CODE 3510-22-P